DEPARTMENT OF JUSTICE

Drug Enforcement Administration

[Docket No. 03-36]

Annette Antonsson, M.D., Denial of Application

On June 4, 2003, the Deputy Assistant Administrator, Office of Division Control, Drug Enforcement Administration (DEA), issued an Order to Show Cause to Annette Antonsson, M.D. (Respondent) of San Francisco, California, notifying her of an opportunity to show cause as to why DEA should not deny her application for a DEA certificate of registration as a practitioner pursuant to 21 U.S.C. 824(a) and deny any pending applications for renewal or modification of Respondent's expired DEA registration BA2457097. As a basis for revocation, the Order to Show Cause alleged that Respondent voluntarily surrendered her State license to practice medicine to the Medical Board of California effective May 24, 1999, and that, accordingly, she is not authorized to handle controlled substances in California, the State in which she applied to be registered.

On July 5, 2003, Respondent, acting pro se, timely requested a hearing in this matter. In her request for a hearing, Respondent admitted she had surrendered her license and was “currently not licensed in California.” On July 24, 2003, the Presiding Administrative Law Judge Mary Ellen Bittner (Judge Bittner) issued the Government, as well as Respondent, an Order for Prehearing Statements.

In lieu of filing a prehearing statement, the Government filed Government's request for Stay of Proceedings and Motion for Summary Disposition. The Government argued that the Respondent is without authorization to handle controlled substances in the State of California, and as a result, further proceedings in the matter were not required. Attached to the Government's motion was a copy of the Medical Board of California's Decision and Order, dated June 28, 1999, adopting the Stipulation for Surrender of License which Respondent agreed to and signed on May 24, 1999.

On July 31, 2003, Judge Bittner issued a Memorandum to Counsel providing Respondent until August 31, 2003, to respond to the Government's motion. Respondent did not file any response.

On September 23, 2003, Judge Bittner issued her Opinion and Recommended Decision of the Administrative Law Judge (Opinion and Recommended Decision). As part of her recommended ruling, Judge Bittner granted the Government's Motion for Summary Disposition and found that the Respondent lacked authorization to handle controlled substances in California, the jurisdiction in which she was applying to be registered. Judge Bittner also recommended that the Respondent's application for a DEA certificate of registration be denied. No exceptions were filed by either party to Judge Bittner's Opinion and Recommended Decision and on November 13, 2003, the record of these proceedings was transmitted to the Office of the Acting DEA Deputy Administrator.

The Acting Deputy Administrator has considered the record in its entirety and pursuant to 21 CFR 1316.67, hereby issues her final order based upon findings of fact and conclusions of law as hereinafter set forth. The Acting Deputy Administrator adopts, in full, the Opinion and Recommended Decision of the Administrative Law Judge.

The Acting Deputy Administrator finds that Respondent was previously issued DEA certificate of registration BA 2457097, which expired in June 2002. Subsequently, Respondent filed an application for renewal on October 31, 2002, which was appropriately treated by DEA as a request for a new registration. The Acting Deputy Administrator further finds that, effective May 24, 1999, Respondent voluntarily surrendered her State license to practice medicine to the California Medical Board and has also admitted that she is currently not licensed to practice in California. Therefore, the Acting Deputy Administrator finds Respondent is currently not licensed to practice medicine in California and as a result, it is reasonable to infer she is also without authorization to handle controlled substances in that State.

DEA does not have statutory authority under the Controlled Substances Act to issue or maintain a registration if the applicant or registrant is without State authority to handle controlled substances in the State in which she conducts business. See 21 U.S.C. 802(21), 823(f) and 824(a)(3). This prerequisite has been consistently upheld. See Karen Joe Smiley, M.D., 68 FR 48944 (2003); Dominick A. Ricci, M.D., 58 FR 51104 (1993); Bobby Watts, M.D., 53 FR 11919 (1988).

Here, it is clear that Respondent is not currently licensed to handle controlled substances in California, the jurisdiction in which she has applied for registration. Therefore, she is not entitled to a DEA registration in that State.

Accordingly, the Acting Deputy Administrator of the Drug Enforcement Administration, pursuant to the authority vested in her by 21 U.S.C. 823 and 824 and 28 CFR 0.100(b) and 0.104, hereby orders that the application for a DEA certificate of registration submitted by Annette Antonsson, M.D., be, and it hereby is, denied. This order is effective March 8, 2004.

Dated: January 7, 2004.
Michele M. Leonhart
Acting Deputy Administrator.

[FR Doc. 04-2341 Filed 2-4-04; 8:45 am]

BILLING CODE 4410-09-M